DEPARTMENT OF TRANSPORTATION

Federal Aviation Administration

14 CFR Part 71

[Docket No. FAA-2022-0571; Airspace Docket No. 22-ANM-46]

RIN 2120-AA66

Establishment of Class E Airspace; Christmas Valley Airport, OR; Correction

AGENCY: Federal Aviation Administration (FAA), Department of Transportation (DOT).

ACTION: Final rule; correction.

SUMMARY: The FAA is correcting a final rule that appeared in the Federal Register on December 9, 2022. The Final Rule incorrectly annotated the airspace class designation in the text header of the newly designated Class E airspace beginning at 700 feet above the surface at Christmas Valley Airport, OR. This action corrects the error.

DATES: Effective 0901 UTC, February 23, 2023. The Director of the Federal Register approves this incorporation by reference under 1 CFR part 51, subject to the annual revision of FAA Order JO 7400.11, Airspace Designations and Reporting Points, and publication of conforming amendments.

FOR FURTHER INFORMATION CONTACT: Nathan A. Chaffman, Federal Aviation Administration, Western Service Center, Operations Support Group, 2200 S. 216th Street, Des Moines, WA 98198; telephone (206) 231-3460.

SUPPLEMENTARY INFORMATION:

History

The FAA published a final rule in the Federal Register (87 FR 75465; December 9, 2022) for Docket FAA-2022-0571, which established Class E airspace extending upward from 700 feet above the surface at Christmas Valley Airport, OR. Subsequent to publication, the FAA identified that the Final Rule incorrectly annotated the airspace class designator in the text header of the newly established Class E airspace beginning at 700 feet above the surface at Christmas Valley Airport, OR. The legal description's text header currently reads “ANM OR E Christmas Valley, OR [New], but should read “ANM OR E5 Christmas Valley, OR [New].” This action corrects the error.

The Class E5 airspace designation is published in paragraph 6005 of FAA Order JO 7400.11G, dated August 19, 2022, and effective September 15, 2022, which is incorporated by reference in 14 CFR 71.1. The Class E airspace designation listed in this document will be published subsequently in FAA Order JO 7400.11.

FAA Order JO 7400.11 is published annually and becomes effective on September 15.

Correction to Final Rule

Accordingly, pursuant to the authority delegated to the FAA, “Establishment of Class E Airspace; Christmas Valley Airport, OR”, published in the Federal Register of December 9, 2022 (87 FR 75465), FR Doc. 2022-26646, is corrected as follows:

§ 71.1 [Corrected]

1. On page 75466, in the third column, line 1 is corrected to read:

ANM OR E5 Christmas Valley, OR [New]

Issued in Des Moines, Washington, on December 12, 2022.
B.G. Chew,
Group Manager, Operations Support Group, Western Service Center.

[FR Doc. 2022-27268 Filed 12-15-22; 8:45 am]

BILLING CODE 4910-13-P